DEPARTMENT OF ENERGY

Federal Energy Regulatory Commission

[Docket No. RP00-360-000]

Southern Natural Gas Company; Notice of Cost Recovery Filing

July 6, 2000.

Take notice that on June 30, 2000, Southern Natural Gas Company (Southern) tendered for filing as part of its FERC Gas Tariff, Seventh Revised Volume No. 1, the following tariff sheets with the proposed effective date of July 1, 2000.

Fifty-First Revised Sheet No. 14

Seventy-Second Revised Sheet No. 15

Fifty-First Revised Sheet No. 16

Seventy-Second Revised Sheet No. 17

Thirty-Seventh Revised Sheet No. 14A

Forty-Third Revised Sheet No. 14A

Thirty-Seventh Revised Sheet No. 16A

Forty-Third Revised Sheet No. 17A

Second Revised Sheet No. 34B

First Revised Sheet No. 34C

First Revised Sheet No. 34D

Fifth Revised Sheet No. 41A

Sixth Revised Sheet No. 42

Seventh Revised Sheet No. 53

Fourth Revised Sheet No. 53A

Third Revised Sheet No. 53B

Southern has eliminated from its effective tariff certain surcharges and tariff provisions used by Southern to recover Order No. 636 transition costs associated with Account No. 858 (T&C Surcharge) and Southern LNG Inc (SEC Surcharge).

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be reviewed on the web at http://www.ferc.fed.us/online/rims.htm (call 202-208-2222 for assistance).

David P. Boergers,
Secretary.

[FR Doc. 00-17593 Filed 7-11-00; 8:45 am]

BILLING CODE 6717-01-M